DEPARTMENT OF ENERGY

Federal Energy Regulatory Commission

[Docket No. RP03-162-000]

Trailblazer Pipeline Company; Notice of Informal Settlement Conference

April 22, 2003.

Take notice that an informal settlement conference will be convened in this proceeding commencing at 10 a.m. on April 30, 2003, and continuing on May 1, 2003, at the offices of the Federal Energy Regulatory Commission, 888 First Street, NE., Washington, DC, 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

For additional information, please contact Arnold H. Meltz at (202) 502-8649, Arnold.Meltz@ferc.gov or Lorna J. Hadlock at (202) 502-8737, Lorna.Hadlock@ferc.gov.

Magalie R. Salas,
Secretary.

[FR Doc. 03-10469 Filed 4-28-03; 8:45 am]

BILLING CODE 6717-01-P